DEPARTMENT OF DEFENSE

Department of the Army

Army Science Board; Notice of Partially Closed Meeting

In accordance with section 10(a)(2) of the Federal Advisory Committee Act (P.L. 92-463), announcement is made of the following Committee Meeting:

Name of Committee: Army Science Board (ASB) Analysis Panel.

Date of Meeting: 4 June 2001.

Time of Meeting: 0800-1700.

Place: Ft. Belvoir.

Agenda: The Army Science Board's (ASB) Summer Study 2001 Analysis Panel will meet for briefings and discussions. These meetings will be partially open to the public. Any interested person may attend, appear before, or file statements with the Panel at the time and manner permitted by the Panel. The classified portions of these meetings will be closed to the public in accordance with Section 552b(c) of Title 5, U.S.C., specifically subparagraph (1) thereof, and Title 5, U.S.C., Appendix 2, subsection 10(d). For further information, please contact Karen Williams at (407) 384-3937.

Wayne Joyner,
Executive Assistant, Army Science Board.

Analysis Panel Ft. Belvoir JVB Site Visit; 4 June 01, Agenda

4 June—Ft. Belvoir

0900-1200 JBV Review; Unclassified—Open

1200-1300 Lunch

1300-1400 JFCOM/JCATS for NKT; Secret

1400-1500 Executive Session; Unclassified—Open

[FR Doc. 01-13763 Filed 5-31-01; 8:45 am]

BILLING CODE 3710-08-M